DEPARTMENT OF JUSTICE

Office of Justice Programs

Agency Information Collection Activities: Proposed Collection; Comments Requested

ACTION: 30-Day Notice of Information Collected Under Review: Financial Status Report (Short Form).

The Department of Justice (DOJ), Office of Justice Programs (OJP), Office of the Comptroller (OC), has submitted the following information collection request to the Office of Management and Budget (OMB) for review and approval in accordance with the Paperwork Reduction Act of 1995. The proposed information collection is published to obtain comments from the public and affected agencies. This proposed information collection was previously published in the Federal Register Volume 70, Number 216, pages 68091-68092 on November 9, 2005, allowing for a 60-day comment period.

The purpose of this notice is to allow an additional 30 days for public comment until February 21, 2006. This process is conducted in accordance with 5 CFR 1320.10.

Written comments and/or suggestions regarding the item(s) contained in this notice, especially the estimated public burden and associated response time, should be directed to the Office of Management and Budget, Office of Information and Regulatory Affairs, Attention: Department of Justice Desk Officer, Washington, DC 20530. Additionally, comments may be submitted to OMB via facsimile to (202) 395-5806. Written comments and suggestions from the public and affected agencies concerning the proposal collection of information are encouraged. Your comments should address on or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information:

(1) Type of Information Collection: Revision of a currently approved collection.

(2) Title of the Form/Collection: Financial Status Report (Short Form).

(3) Agency form number, if any, and the applicable component of the Department sponsoring the collection: N/A; The Office of the Comptroller.

(4) Affected public who will be asked or required to respond, as well as a brief abstract: Primary: The form is completed by State, Local or Tribal Governments who were awarded grants by the Department of Justice, Office of Justice Programs and other cross servicing agencies. It is used as an aid for grant recipient to report the status of their expenditures.

(5) An estimate of the total number of respondents and the amount of time estimated for an average respondent to respond: The estimated number of respondents were 15,304 and the estimated time for an average respondent to reply is .5 hour.

(6) An estimate of the total public burden (in hours) associated with the collection: These are approximately 30,608 annual burden hours associated with this information collection.

If additional information is required contact: Robert B. Briggs, Clearance Officer, United States Department of Justice, Justice Management Division, Policy and Planning Staff, Patrick Henry Building, Suite 1600, 601 D Street, NW., Washington, DC 20530.

Dated: January 12, 2006.
Robert B. Briggs,
Clearance Officer, Department of Justice.

[FR Doc. 06-474 Filed 1-18-06; 8:45 am]

BILLING CODE 4410-18-M